DEPARTMENT OF EDUCATION

National Institute on Disability and Rehabilitation Research (NIDRR)—Disability and Rehabilitation Research Projects and Centers Program—Disability Rehabilitation Research Projects (DRRP)

AGENCY: Office of Special Education and Rehabilitative Services, Department of Education.

ACTION: Notice of proposed priority and definitions.

SUMMARY: The Assistant Secretary for Special Education and Rehabilitative Services, the Assistant Secretary for Vocational and Adult Education, and the Assistant Secretary for Postsecondary Education jointly propose a priority and definitions for a center on postsecondary education for students with intellectual disabilities under the DRRP program administered by NIDRR. The Assistant Secretary for Special Education and Rehabilitative Services may use this priority for competitions in fiscal year (FY) 2008 and later years. We take this action to focus attention on an area of national need. We intend this priority to improve postsecondary education and other outcomes for individuals with intellectual disabilities.

DATES: We must receive your comments on or before January 10, 2008.

ADDRESSES: Address all comments about this proposed priority and definitions to Donna Nangle, U.S. Department of Education, 400 Maryland Avenue, SW., room 6029, Potomac Center Plaza (PCP), Washington, DC 20204-2700. If you prefer to send your comments through the Internet, use the following address: donna.nangle@ed.gov.

You must include the term “Intellectual Disability Center Priority” in the subject line of your electronic message.

FOR FURTHER INFORMATION CONTACT: Donna Nangle. Telephone: (202) 245-7462 or by e-mail: donna.nangle@ed.gov.

If you use a telecommunications device for the deaf (TDD), you can call the Federal Relay Service (FRS), toll free, at 1-800-877-8339.

Individuals with disabilities can obtain this document in an alternative format (e.g., Braille, large print, audiotape, or computer diskette) on request to the contact person listed under FOR FURTHER INFORMATION CONTACT.

SUPPLEMENTARY INFORMATION: This notice of proposed priority and definitions is in concert with President George W. Bush's New Freedom Initiative (NFI) and NIDRR's Final Long-Range Plan for FY 2005-2009 (Plan). The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Invitation to Comment

We invite you to submit comments regarding the proposed priority and definitions in this notice. To ensure that your comments have maximum effect in developing the notice of final priority and definitions, we urge you to identify clearly the specific topic that each comment addresses.

We invite you to assist us in complying with the specific requirements of Executive Order 12866 and its overall requirement of reducing regulatory burden that might result from the priority and definitions proposed in this notice. Please let us know of any further opportunities we should take to reduce potential costs or increase potential benefits while preserving the effective and efficient administration of the program.

During and after the comment period, you may inspect all public comments about the proposed priority and definitions in this notice in room 6029, 550 12th Street, SW., PCP, Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for the priority and definitions proposed in this notice. If you want to schedule an appointment for this type of aid, please contact the person listed under FOR FURTHER INFORMATION CONTACT.

We will announce the final priority and definitions in a notice in the Federal Register. We will determine the final priority and definitions after considering responses to this notice and other information available to the Department. This notice does not preclude us from proposing or using additional priorities or definitions, subject to meeting applicable rulemaking requirements.

Note: This notice does not solicit applications. In any year in which we choose to use the priority proposed in this notice, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Disability and Rehabilitation Research Projects (DRRP) Program

The purpose of the DRRP program is to plan and conduct research, demonstration projects, training, and related activities to develop methods, procedures, and rehabilitation technologies that maximize the full inclusion and integration into society, employment, independent living, family support, and economic and social self-sufficiency of individuals with disabilities, especially individuals with the most severe disabilities, and to improve the effectiveness of services authorized under the Rehabilitation Act of 1973, as amended. DRRPs carry out one or more of the following types of activities, as specified and defined in 34 CFR 350.13 through 350.19: Research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

Priority

Background

The Elementary and Secondary Education Act of 1965, as amended by the No Child Left Behind Act of 2001 (20 U.S.C. 6300) and the 2004 amendments to the Individuals with Disabilities Education Act (IDEA) (20 U.S.C. 1400 et seq.) have expanded educational opportunities for all students, including those with intellectual disabilities. More and more students with intellectual disabilities are enrolling in postsecondary education programs, including community colleges, vocational-technical schools, four-year colleges, and specialized programs on college campuses that promote independence and improve employment options. A small number of two- and four-year colleges (approximately 15) provide individualized supports so that students with intellectual disabilities, such as students with Down syndrome, can participate in regular college credit courses. More common are two-year colleges that enroll individuals with intellectual disabilities in programs that are separate from the traditional academic programs of those institutions. The majority of these programs are dual enrollment programs for students ages 18 through 21 who receive special education services and who are still enrolled in high school and take courses on college campuses that focus on academic and personal skill building (e.g., social skills, life skills) as part of their individualized education program under IDEA.

Despite the growing interest in postsecondary education programs for students with intellectual disabilities, there are relatively little data on: (a) The participation rates of students with intellectual disabilities in postsecondary education; (b) the types of programs and services provided for students with intellectual disabilities in these programs; and (c) the outcomes for students with intellectual disabilities who participate in different types of postsecondary education programs.

Individuals with intellectual disabilities face significant barriers to successful participation in postsecondary education and vocational-technical programs. According to the President's Committee for People with Intellectual Disabilities (2004), fewer than 15 percent of young adults with intellectual disabilities participate in postsecondary education programs. The Committee also reported that approximately 90 percent of adults with intellectual disabilities are not employed.

Research on postsecondary education for students with intellectual disabilities is limited. However, there is some evidence to suggest that independent living and employment outcomes may improve for students with intellectual disabilities who participate in college-based programs (Hart et al., 2006; Wagner et al., 2006). In two studies, students with intellectual disabilities who attended postsecondary education courses and programs had higher levels of self-esteem, better vocational outcomes, and greater personal success when compared to their peers who did not attend postsecondary education programs (Hart et al., 2004, 2006).

To address the gaps in knowledge about the participation of individuals with intellectual disabilities in postsecondary education programs, NIDRR seeks to establish a center that will conduct research and disseminate information on scientifically based approaches for improving long-term independent living and employment opportunities for individuals with intellectual disabilities through the participation of such individuals in postsecondary education programs.

References

Hart, D., Pasternack, R.H., Mele-McCarthy, J., Zimbrich, K., & Parker, D.R. (2004). “Community College: A Pathway to Success for Youth with Learning, Cognitive, and Intellectual Disabilities in Secondary Settings.” Education and Training in Developmental Disabilities, Volume 39, Number 4: 54-66.

Hart, D., Grigal, M., Sax, C., Martinez, D., & Will, M. (2006). “Postsecondary Education Options for Students with Intellectual Disabilities.” Research to Practice, Issue # 45. Accessed online October 21, 2007 at: http://www.communityinclusion.org/article.php?article_id=178&staff_id=19.

President's Committee for People with Intellectual Disabilities (2004). A Charge We Have To Keep. A Road Map to Personal and Economic Freedom for People with Intellectual Disabilities in the 21st Century. Washington, DC: U.S. Department of Health and Human Services, Administration for Children and Families.

Wagner, M., Newman, L., Cameto, R., & Levine, P. (2006). The Academic Achievement and Functional Performance of Youth With Disabilities. A Report From the National Longitudinal Transition Study—2 (NLTS2). (NCSER 2006-3000). Menlo Park, CA: SRI International.

Proposed Priority—Center on Postsecondary Education for Students with Intellectual Disabilities

The Assistant Secretary for Special Education and Rehabilitative Services, the Assistant Secretary for Vocational and Adult Education, and the Assistant Secretary for Postsecondary Education jointly propose a priority for a DRRP—the Center on Postsecondary Education for Students with Intellectual Disabilities (Center). In order to meet this priority, the Center must—

(a) Identify key characteristics and promising practices of postsecondary education programs that currently serve students with intellectual disabilities, including collecting information on—

(1) How students with intellectual disabilities are recruited and retained in these programs;

(2) The extent to which students with intellectual disabilities are enrolled in academic courses as part of these programs; and

(3) The types and extent of accommodations provided to students with intellectual disabilities in order to ensure their active participation in these programs;

(b) Conduct scientifically based research (as defined in 20 U.S.C. 7801(37)) to determine whether variation in educational, vocational, and independent living outcomes for students with intellectual disabilities is associated with participation in different types of postsecondary education programs. To fulfill this requirement, the Center must conduct a longitudinal study or secondary analyses of existing national and State longitudinal datasets. At a minimum, the Center must analyze data from the National Longitudinal Transition Study-2 (NLTS-2) and the Florida K-20 Education Data Warehouse. The NLTS-2 can be accessed at: http://www.nlts2.org.

The Florida K-20 Education Data Warehouse can be accessed at: http://www.edwapp.doe.state.fl.us/doe/.

(c) Compile existing technical assistance materials and develop new materials, as needed, including information on promising practices that can be replicated, for postsecondary education institutions that are developing new programs or expanding existing programs to provide activities for students with intellectual disabilities. Technical assistance materials must be informed by knowledge acquired through the Center's research program, as the knowledge becomes available;

(d) Partner with existing training and technical assistance providers for the purpose of disseminating technical assistance materials to postsecondary education programs interested in developing new programs or expanding existing programs for students with intellectual disabilities. To the extent possible, technical assistance and other informational materials should be disseminated to interested students with intellectual disabilities and their families;

(e) Provide technical assistance information and materials to appropriate NIDRR research and dissemination centers, including the National Center for the Dissemination of Disability Research and the Research Utilization Support and Help (RUSH) Project at the Southwest Educational Development Laboratory, and the Center for International Rehabilitation Research Information and Exchange at the State University of New York at Buffalo;

(f) Establish an advisory committee of researchers, vocational rehabilitation providers, transition planners, secondary and postsecondary educators, individuals with intellectual disabilities, and parents of individuals with intellectual disabilities to provide the Center, on an ongoing basis, with guidance on the Center's research and technical assistance activities;

(g) Conduct a formative evaluation of the Center's activities, using clear performance objectives to ensure continuous improvement in the operation of the Center, including objective measures of progress in implementing the project and ensuring the quality of products and services; and

(h) To the extent possible, consult with the sponsors of activities that are similar or related to the Center's activities, especially, existing training and technical assistance resources that have been established by relevant offices within the U.S. Department of Education, including the Rehabilitation Service Administration's Rehabilitation Continuing Education Programs; the Office of Special Education Programs' Technical Assistance and Dissemination Network, and Technical Assistance Communities of Practice; the Office of Vocational and Adult Education's National Research Center for Career and Technical Education; and the NIDRR network of Knowledge Translation grantees. This consultation must be designed to avoid duplication of efforts and to facilitate the exchange of information, pool resources, and improve the overall effectiveness of the Center's activities.

Definitions

The Assistant Secretary for Special Education and Rehabilitative Services, the Assistant Secretary for Vocational and Adult Education, and the Assistant Secretary for Postsecondary Education jointly propose to establish the following definitions for the purpose of the Center on Postsecondary Education for Students with Intellectual Disabilities priority:

(1) Adaptive skill areas, as used in the definition of students with intellectual disabilities, means the basic skills needed for everyday life, such as communication, self-care, home living, social skills, leisure, health and safety, self-direction, functional academics (reading, writing, basic math), and work.

(2) Postsecondary education programs means programs and activities at community colleges, vocational-technical schools, four-year colleges, and specialized programs on college campuses that are intended to promote independence and improve employment outcomes for students with intellectual disabilities.

(3) Scientifically based research has the meaning given the term in 20 U.S.C. 7801(37): Research that involves the application of rigorous, systematic, and objective procedures to obtain reliable and valid knowledge relevant to education activities and programs. It includes research that—

(a) employs systematic, empirical methods that draw on observation or experiment;

(b) involves rigorous data analyses that are adequate to test the stated hypotheses and justify the general conclusions drawn;

(c) relies on measurements or observational methods that provide reliable and valid data across evaluators and observers, across multiple measurements and observations, and across studies by the same or different investigators;

(d) utilizes experimental or quasi-experimental designs in which individual entities, programs, or activities are assigned to different conditions and with appropriate controls to evaluate the effects of the condition of interest, with a preference for random-assignment experiments, or other designs to the extent that those designs contain within-condition or across-condition controls;

(e) ensures that experimental studies are presented in sufficient detail and clarity to allow for replication or, at a minimum, offer the opportunity to build systematically on their findings; and

(f) has been accepted by a peer-reviewed journal or approved by a panel of independent experts through a comparably rigorous, objective, and scientific review.

(4) Students with intellectual disabilities means—

(a) individuals between the ages of 16 and 24 whose intellectual functioning levels require significant changes in instructional methods and modifications to the curriculum in order to participate in postsecondary educational activities;

(b) individuals who have significant limitations in adaptive skill areas as expressed in conceptual, social, and practical adaptive skills; and

(c) individuals whose disabilities originated before the age of 18.

Executive Order 12866

This notice of proposed priority and definitions has been reviewed in accordance with Executive Order 12866. Under the terms of the order, we have assessed the potential costs and benefits of this regulatory action.

The potential costs associated with this notice of proposed priority and definitions are those resulting from statutory requirements and those we have determined as necessary for administering this program effectively and efficiently.

In assessing the potential costs and benefits—both quantitative and qualitative—of this notice of proposed priority and definitions, we have determined that the benefits of the proposed priority and definitions justify the costs.

Summary of potential costs and benefits

The benefits of the DRRP programs have been well established over the years in that other DRRP projects have been completed successfully. The priority and definitions proposed in this notice will generate new knowledge through research, development, dissemination, utilization, and technical assistance.

Another benefit of the proposed priority and definitions is that establishing a new DRRP will support the President's NFI and improve the lives of individuals with disabilities. The new DRRP will generate, disseminate, and promote the use of new information that will improve the options for individuals with intellectual disabilities to achieve improved education, employment, and independent living outcomes.

Intergovernmental Review

This program is not subject to Executive Order 12372 and the regulations in 34 part 79.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Numbers 84.133A Disability Rehabilitation Research Projects)

Program Authority: 29 U.S.C. 762(g) and 764(a).

Dated: December 5, 2007.
Raymond Simon,
Acting Assistant Secretary for Special Education and Rehabilitative Services.

[FR Doc. E7-23975 Filed 12-10-07; 8:45 am]

BILLING CODE 4000-01-P